DEPARTMENT OF ENERGY

Federal Energy Regulatory Commission

Combined Notice of Filings

Take notice that the Commission has received the following Natural Gas Pipeline Rate and Refund Report filings:

Docket Number: PR21-6-000.

Applicants: ONEOK WesTex Transmission, L.L.C.

Description: Submits tariff filing per 284.123(b), (e)+(g): 2020 Revised Statement of Operating Conditions to be effective 12/1/2020 under PR21-6.

Filed Date: 11/25/2020.

Accession Number: 202011255047.

Comments Due: 5 p.m. ET 12/16/2020.

284.123(g) Protests Due: 5 p.m. ET 1/25/2021.

Docket Numbers: RP21-255-000.

Applicants: TransColorado Gas Transmission Company LLC.

Description: § 4(d) Rate Filing: Quarterly Fuel and Lost and Unaccounted For Percentage Update to be effective 1/1/2021.

Filed Date: 11/25/20.

Accession Number: 20201125-5008.

Comments Due: 5 p.m. ET 12/7/20.

Docket Numbers: RP21-256-000.

Applicants: Mojave Pipeline Company, L.L.C.

Description: § 4(d) Rate Filing: Annual Fuel and L&U Filing 2021 to be effective 1/1/2021.

Filed Date: 11/25/20.

Accession Number: 20201125-5020.

Comments Due: 5 p.m. ET 12/7/20.

Docket Numbers: RP21-257-000.

Applicants: El Paso Natural Gas Company, L.L.C.

Description: § 4(d) Rate Filing: Negotiated Rate Agreement Update (Conoco Dec 20) to be effective 12/1/2020.

Filed Date: 11/25/20.

Accession Number: 20201125-5023.

Comments Due: 5 p.m. ET 12/7/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2020.
Kimberly D. Bose,
Secretary.

[FR Doc. 2020-26714 Filed 12-3-20; 8:45 am]

BILLING CODE 6717-01-P